INTERNATIONAL TRADE COMMISSION

[Investigation No. 332-533]

Environmental and Related Services

AGENCY: United States International Trade Commission.

ACTION: Institution of investigation and scheduling of public hearing.

SUMMARY: Following receipt of a request on July 30, 2012 from the U.S. Trade Representative (USTR) under section 332(g) of the Tariff Act of 1930 (19 U.S.C. 1332(g)), the U.S. International Trade Commission (Commission) instituted investigation No. 332-533, Environmental and Related Services.

DATES: October 4, 2012: Deadline for filing requests to appear at the public hearing.

October 10, 2012: Deadline for filing pre-hearing briefs and statements.

October 22, 2012: Public hearing.

October 30, 2012: Deadline for filing post-hearing briefs and statements and all other written submissions.

March 29, 2013: Transmittal of Commission report to USTR.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at https://edis.usitc.gov/edis3-internal/app.

FOR FURTHER INFORMATION CONTACT: Project Leader Jennifer Powell (202-205-3450 or Jennifer.Powell@usitc.gov) or Deputy Project Leader Joann Peterson (202-205-3032 or Joann.Peterson@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: In his letter the USTR requested that the Commission prepare two reports, one on environmental and related services, and a second on renewable energy and related services, and deliver the reports in 8 and 11 months, respectively, after receipt of the letter. This notice announces the institution of an investigation and schedule, including the date for a public hearing, relating to the preparation of the first report; the Commission will announce the institution of a second investigation and schedule relating to preparation of the second report in a second notice.

As requested by the USTR, the Commission will provide a first report, on environmental and related services, that, to the extent practicable:

• Estimates the size of the U.S. and global markets for certain environmental and related services—including water and wastewater services, solid and hazardous waste services, and remediation services—identifies top suppliers and key country markets for such services, investigates factors affecting supply and demand in these market segments, and highlights market developments that have occurred within the last five years;

• Estimates the value of trade and investment in the subject environmental services segments, identifies key export and import markets for such services, and discusses recent trends in environmental services trade and investment; and

• Identifies barriers to trade and investment in the subject environmental services segments, discusses recent efforts to liberalize trade and investment in environmental services, and investigates the potential impact of further liberalization in environmental services.

As requested, the Commission expects to deliver this first report to the USTR no later than March 29, 2013.

Public Hearing: A public hearing in connection with this investigation will be held at the U.S. International Trade Commission Building, 500 E Street SW., Washington, DC, beginning at 9:30 a.m. on October 22, 2012. Requests to appear at the public hearing should be filed with the Secretary no later than 5:15 p.m., October 4, 2012. All pre-hearing briefs and statements should be filed not later than 5:15 p.m., October 10, 2012 and all post-hearing briefs and statements should be filed not later than 5:15 p.m., October 30, 2012; all such pre- and post-hearing briefs and statements must be filed in accordance with the requirements in the “Submissions” section below. In the event that, as of the close of business on October 4, 2012 no witnesses are scheduled to appear at the hearing, the hearing will be canceled. Any person interested in attending the hearing as an observer or nonparticipant should contact the Office of the Secretary at 202-205-2000 after October 4, 2012, for information concerning whether the hearing will be held.

Written Submissions: In lieu of or in addition to participating in the hearing, interested parties are invited to file written submissions concerning this investigation. All written submissions should be addressed to the Secretary, and should be received not later than 5:15 p.m., October 30, 2012. All written submissions must conform with the provisions of section 201.8 of the Commission's Rules of Practice and Procedure (19 CFR 201.8). Section 201.8 and the Commission's Handbook on Filing Procedures require that interested parties file documents electronically on or before the filing deadline and submit eight (8) true paper copies by 12:00 noon eastern time on the next business day. In the event that confidential treatment of a document is requested, interested parties must file, at the same time as the eight paper copies, at least four (4) additional true paper copies in which the confidential information must be deleted (see the following paragraph for further information regarding confidential business information). Persons with questions regarding electronic filing should contact the Secretary (202-205-2000).

Any submissions that contain confidential business information (CBI) must also conform with the requirements in section 201.6 of the Commission's Rules of Practice and Procedure (19 C.F.R. 201.6). Section 201.6 of the rules requires that the cover of the document and the individual pages be clearly marked as to whether they are the “confidential” or “non-confidential” version, and that the confidential business information be clearly identified by means of brackets. All written submissions, except for confidential business information, will be made available for inspection by interested parties.

In the request letter, the USTR stated that his office intends to make the Commission's report available to the public in its entirety, and asked that the Commission not include any confidential business information or national security classified information in the report that the Commission sends to the USTR. Any confidential business information received by the Commission in this investigation and used in preparing this report will not be published in a manner that would reveal the operations of the firm supplying the information.

By order of the Commission.
Issued: August 21, 2012.
Lisa R. Barton,
Acting Secretary to the Commission.

[FR Doc. 2012-20956 Filed 8-24-12; 8:45 am]

BILLING CODE 7020-02-P